DEPARTMENT OF COMMERCE

International Trade Administration

[C-560-824]

Certain Coated Paper Suitable for High-Quality Print Graphics Using Sheet-Fed Presses From Indonesia: Final Results of Expedited First Sunset Review of the Countervailing Duty Order

AGENCY: Enforcement and Compliance, International Trade Administration, Department of Commerce.

SUMMARY: The Department of Commerce (Department) finds that revocation of the countervailing duty order (CVD) on certain coated paper (certain coated paper) suitable for high-quality print graphics using sheet-fed presses from Indonesia would be likely to lead to a continuation or recurrence of a countervailable subsidy at the levels indicated in the “Final Results of Sunset Review” section of this notice.

DATES: Effective Date: February 5, 2016.

FOR FURTHER INFORMATION CONTACT: Jacqueline Arrowsmith, Office VII, AD/CVD Operations, Enforcement and Compliance, International Trade Administration, U.S. Department of Commerce, 14th Street and Constitution Avenue NW., Washington, DC 20230; telephone (202) 482-5255.

Background

On November 17, 2010, the Department of Commerce (the Department) published the CVD Order on certain coated paper from Indonesia.¹ On October 1, 2015, the Department initiated this first sunset review of the CVD Order pursuant to section 751(c)(2) of the Tariff Act of 1930, as amended, (the Act) and 19 CFR 351.218(c).² Verso Corporation, S.D. Warren Company d/b/a Sappi North America, and Appleton Coated LLC, and the United Steel, Paper and Forestry, Rubber, and Manufacturing, Energy, Allied Industrial and Service Workers Union, AFL-CIO, CLC, (collectively, Petitioners), timely filed a notice of intent to participate in the review.³

¹ See Certain Coated Paper Suitable for High-Quality Print Graphics Using Sheet-Fed Presses from Indonesia: Countervailing Duty Order, 75 FR 70206 (November 17, 2010) (CVD Order).

² See Initiation of Five-Year “Sunset” Reviews, 80 FR 59134 (October 1, 2015).

³ See Letter to the Department, “First Five-Year (“Sunset”) Review of Countervailing Duty Order on Certain Coated Paper Suitable for High-Quality Print Graphics Using Sheet-Fed Presses from Indonesia: Domestic Industry's Notice of Intent to Participate In Sunset Review,” (October 15, 2015) (Notice of Intent to Participate).

On October 30, 2015, the Department received a substantive response from Petitioners, in accordance with 19 CFR 351.218(d)(3)(i).⁴ The Department did not receive a response from the Government of Indonesia or any Indonesian producers or exporters of subject merchandise.

⁴ See Letter to the Department, “Five-Year (“Sunset”) Review Of Countervailing Duty Order On Certain Coated Paper Suitable for High-Quality Print Graphics Using Sheet-Fed Presses from Indonesia: Domestic Industry's Substantive Response,” (October 30, 2015) (Substantive Response).

Scope of the Order

The merchandise subject to these orders is coated paper. The merchandise subject to these orders are provided for under subheadings: 4810.14.11, 4810.14.1900, 4810.14.2010, 4810.14.2090, 4810.14.5000, 4810.14.6000, 4810.14.70, 4810.19.1100, 4810.19.1900, 4810.19.2010, 4810.19.2090, 4810.22.1000, 4810.22.50, 4810.22.6000, 4810.22.70, 4810.29.1000, 4810.29.5000, 4810.29.6000, 4810.29.70, 4810.32, 4810.39 and 4810.92 of the Harmonized Tariff Schedule of the United States (HTSUS). Although the HTSUS subheadings are provided for convenience and customs purposes, our written description of the scope of these orders is dispositive.⁵

⁵ See “Scope of the Order” section, Issues and Decision Memorandum for the Final Results of the Expedited First Sunset Review of the Countervailing Duty Order on Certain Coated Paper Suitable for High-Quality Print Graphics Using Sheet-Fed Presses from Indonesia (Issues and Decision Memorandum).

Analysis of the Comments Received

All issues in this review are addressed in the Issues and Decision Memorandum, including the likelihood of continuation or recurrence of a countervailable subsidy, the net countervailable subsidy rate likely to prevail if the CVD order were revoked, and the nature of the subsidies. The Issues and Decision Memorandum is a public document and is on file electronically via Enforcement and Compliance's Antidumping and Countervailing Duty Centralized Electronic Service (ACCESS). ACCESS is available to registered users at http://access.trade.gov and in the Central Records Unit, room B8024 of the main U.S. Department of Commerce building. In addition, a complete version of the Issues and Decision Memorandum can be accessed at http://enforcement.trade.gov/frn/. The signed Issues and Decision Memorandum and the electronic version of the Issues and Decision Memorandum are identical in content.

Final Results of Sunset Review

Pursuant to sections 752(b)(1) and (3) of the Act, we determine that revocation of the CVD order on certain coated paper from Indonesia would be likely to lead to continuation or recurrence of a net countervailable subsidy at the rates listed below:

Manufacturers/Exporters | Net countervailable subsidy rate (percent)
PT Pabrik Kertas Tjiwi, Tbk/PT Pindo Deli Pulp and Paper Mills/PT Indah Kiat Pulp and Paper, Tbk., collectively known as the Asia Pulp and Paper Company/Sinar Mas Group (APP/SMG) | 17.94
All-Others | 17.94

Notification to Interested Parties

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

The Department is issuing and publishing these final results and this notice in accordance with sections 751(c), 752(b), and 777(i)(1) of the Act and 19 CFR 351.218.

Dated: January 29, 2016.
Paul Piquado,
Assistant Secretary for Enforcement and Compliance.

[FR Doc. 2016-02287 Filed 2-4-16; 8:45 am]

BILLING CODE 3510-DS-P